DEPARTMENT OF AGRICULTURE

Grain Inspection, Packers and Stockyards Programs

Posting of Stockyards

Pursuant to the authority provided under section 302 of the Packers and Stockyards Act (7 U.S.C. 202), it was ascertained that the livestock markets named below are stockyards as defined by section 302(a). Notice was given to the stockyard owners and to the public as required by section 302(b), by posting notice at the stockyards on the dates specified below, that the stockyards were subject to the provisions of the Packers and Stockyards Act, 1921, as amended (7 U.S.C. 181 et seq.).

| Facility No., name, and location of stockyard | Date of posting
CA-188 | Martella Livestock Market, Inc. Tipton, California | March 1, 1999.
IN-166 | United Producers, Inc., Little York, Indiana | May 28, 2001.
MO-282 | The Cow Palace, Inc., Sedgewickville, Missouri | February 13, 1999.
MT-122 | Montana Livestock Company, Ramsey, Montana | March 16, 1999.
NC-175 | Benson Horse Auction, Benson, North Carolina | July 22, 2000.
SC-158 | Strickland Auction Co., Gaston, South Carolina | October 25, 2000.

Done at Washington, D.C. this 23rd day of July 2001.
John Pitchford,
Acting Administrator, Grain Inspection, Packers and Stockyards Administration.

[FR Doc. 01-21041 Filed 8-20-01; 8:45 am]

BILLING CODE 3410-EN-P